DEPARTMENT OF ENERGY

Federal Energy Regulatory Commission

Notice of Application Ready for Environmental Analysis and Soliciting Comments, Recommendations, Terms and Conditions, and Prescriptions

August 12, 2002.

Take notice that the following hydroelectric application has been filed with the Commission and is available for public inspection.

a. Type of Application: Amendment of License Application.

b. Project No.: 2030-036.

c. Date Filed: June 29, 2001.

d. Applicants: Portland General Electric Company (PGE) and the Confederated Tribes of the Warm Springs Reservation of Oregon (CTWS).

e. Name of Project: Pelton Round Butte Hydroelectric Project.

f. Location: The project is located on the Deschutes River in Jefferson, Marion, and Wasco Counties, Oregon. The project occupies lands of the Deschutes National Forest; Mt. Hood National Forest; Willamette National Forest; Crooked River National Grassland; Bureau of Land Management; and tribal lands of the Warm Springs Reservation of Oregon.

g. Filed Pursuant to: Federal Power Act, 16 U.S.C. 791(a)-825(r).

h. Applicant Contacts: Ms. Julie Keil, Director, Hydro Licensing, Portland General Electric Company, 121 SW Salmon Street, Portland, OR 97204, (503) 464-8864; and Mr. James Manion, General Manager, Warm Springs Power Enterprises, P.O. Box 690,Warm Springs, OR 97761, (541) 553-1046.

i. FERC Contact: Any questions on this notice should be addressed to Nan Allen at (202) 502-6128. E-mail address: nan.allen@ferc.gov

j. Deadline for filing comments, recommendations, terms and conditions, and prescriptions: 90 days from the issuance of this notice. The 90-day comment period is in response to the U.S. Department of Agriculture's (USDA) and U.S. Department of the Interior's (DOI) request due to fire emergencies in the vicinity of the project.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's web site (http://www.ferc.gov) under the “e-Filing” link.

k. This application has been accepted, and is ready for environmental analysis at this time.

l. The Round Butte development works consisting of: (1) the 440-foot-high, 1,382-foot-long Round Butte dam; (2) a 535,000-acre-foot reservoir with a normal pool elevation at 1,945.0 feet mean sea level; (3) a spillway intake structure topped with a 30-foot-high, 36-foot-wide radial gate, and a 1,800-foot-long, 21-foot-diameter spillway tunnel; (4) an 85-foot-long, varying in height and width, powerhouse intake structure; (5) a 1,425-foot-long, 23-foot-diameter power tunnel; (6) a powerhouse containing three turbine generating units with a total installed capacity of 247 megawatts (MW); (7) one unconstructed 70-kilowatt (kW) turbine generating unit with a 30-inch-diameter pipe and support structure, a 10-foot square platform, and a turbine discharge pipe; (8) a 12.5-kilovolt (kV), 10.5-mile-long transmission line extending to the Reregulation dam, and a 230-kV, 100-mile-long transmission line extending to Portland General's Bethel substation; and (9) appurtenant facilities.

The Pelton development consists of: (1) the 204-foot-high, 636-foot-long thin-arch variable-radius reinforced concrete Pelton dam with a crest elevation 1,585 feet msl; (2) a reinforced concrete spillway on the left bank with a crest elevation of 1,558 feet msl; (3) Lake Simtustus with a gross storage capacity of 31,000 acre-feet and a normal maximum surface area of 540 acres at normal maximum water surface elevation of 1,580 feet msl; (4) an intake structure at the dam; (5) three 16-foot-diameter penstocks, 107 feet long, 116 feet long, and 108 feet long, respectively; (6) a powerhouse with three turbine/generator units with a total installed capacity of 108 MW; (7) a tailrace channel; (8) a 7.9-mile-long, 230-kV transmission line from the powerhouse to the Round Butte switchyard; and (9) other appurtenances.

The Reregulating development consists of: (1) the 88-foot-high, 1,067-foot-long concrete gravity and impervious core rockfilled Reregulating dam with a spillway crest elevation of 1,402 feet msl; (2) a reservoir with a gross storage capacity of 3,500 acre-feet and a normal maximum water surface area of 190 acres at normal maximum water surface elevation of 1,435 feet msl; (3) a powerhouse at the dam containing a 18.9-MW turbine/generator unit; (4) a tailrace channel; and (5) other appurtenances.

The project is estimated to generate an average of 1.613 billion kilowatthours annually.

m. A copy of the application is available for review at the Commission in the Public Reference Room or may be viewed on the Commission's website at http://www.ferc.gov using the “FERRIS” link. Enter the docket number excluding the last three digits in the docket number field to access the document. For assistance, call (202) 502-8222 or for TTY, (202) 208-1659. A copy is also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission within 60 days from the issuance date of this notice.

Anyone may obtain an extension of time for these deadlines from the Commission only upon a showing of good cause or extraordinary circumstances in accordance with 18 CFR 385.2008. This 90-day notice includes a 30-day extension in response to the request filed by the USDA and DOI on August 5, 2002. All reply comments must be filed with the Commission within 135 days from the date of this notice.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

o. Procedural schedule and final amendments: The application will be processed according to the following Hydro Licensing Schedule. Revisions to the schedule will be made as appropriate.

Notice of the availability of the draft EIS—May 2003;

Initiate 10(j) process—July 2003;

Notice of the availability of the final EIS—November 2003; and

Ready for Commission decision on the application—April 2004.

Final amendments to the application must be filed with the Commission no later than 30 days from the issuance date of the notice of ready for environmental analysis.”

Linwood A. Watson, Jr.,
Deputy Secretary.

[FR Doc. 02-20826 Filed 8-15-02; 8:45 am]

BILLING CODE 6717-01-P